DEPARTMENT OF HOUSING AND URBAN DEVELOPMENT

[Docket No. FR-6507-N-01]

Notice of Final Determination on Expansion of Formula Area for the Bear River Band of the Rohnerville Rancheria

AGENCY: Office of the Assistant Secretary for Public and Indian Housing, HUD.

ACTION: Notice.

SUMMARY: This notice advises the public of HUD's final determination on the Bear River Band of the Rohnerville Rancheria's request to expand its formula area under the Indian Housing Block Grant (IHBG) program. Consistent with IHBG program regulations, HUD is announcing its final determination to expand the Bear River Band of the Rohnerville Rancheria's formula area to include the balance of Humboldt County, in the State of California, for fiscal year 2025.

DATES: HUD's final determination is effective March 28, 2025.

FOR FURTHER INFORMATION CONTACT: Rebecca Halloran, Acting Director, Office of Grants Management, Office of Native American Programs, Department of Housing and Urban Development, 451 Seventh Street SW, Room 4108, Washington, DC 20410, telephone 202-401-7914 (this is not a toll-free number). HUD welcomes and is prepared to receive calls from individuals who are deaf or hard of hearing, as well as individuals with speech or communication disabilities. To learn more about how to make an accessible telephone call, please visit: https://www.fcc.gov/consumers/guides/telecommunications-relay-service-trs.

SUPPLEMENTARY INFORMATION: The IHBG program allocation formula is authorized by section 302 of the Native American Housing Assistance and Self Determination Act of 1996 (25 U.S.C. 4101 et seq.) (NAHASDA). In accordance with 24 CFR part 1000, funds appropriated by Congress for the IHBG program are made available to eligible grant recipients by formula to ensure the equitable and fair distribution of funds. The formula has four components including Need. Need is calculated using the seven factors listed at 24 CFR 1000.324, each based on a tribe's formula area. Should a tribe's formula area overlap with one or more other Indian Tribes, 24 CFR 1000.326 provides the procedure HUD will use to resolve potential or actual issues arising from the overlap.

On August 1, 2024, the Bear River Band of the Rohnerville Rancheria requested that its formula area be expanded to cover the balance of Humboldt County in the State of California based on the Department of the Interior's Near Reservation Service Area Designation as listed in the Federal Register (FR Vol. 65, No. 95, May 16, 2000) for fiscal year 2025. On September 3, 2024, HUD informed the Bear River Band of the Rohnerville Rancheria of its preliminary decision to increase the formula area to include the balance of Humboldt County based on the Near Reservation Service Area Designation. Overlapping formula areas were created between the Bear River Band of the Rohnerville Rancheria, Fort Bidwell Indian Community, Karuk Tribe, Quartz Valley Indian Community, Tolowa Dee-ni' Nation (Smith River Rancheria), Yurok Tribe, Confederated Tribes of the Coos, Lower Umpqua, and Siuslaw Indians, Coquille Indian Tribe, Cow Creek Band of Umpqua Tribe, Confederated Tribes of the Grand Ronde Community, Klamath Tribes, and the Confederated Tribes of Siletz Indians as a result of this decision.

Whenever Tribes have overlapping formula areas, the Needs data for all the individual areas for all Tribes are combined and then apportioned among the Tribes in the overlap as outlined in 24 CFR 1000.326. Consistent with 24 CFR 1000.302, HUD is required to notify the affected Indian Tribes by certified mail and provide the Tribes with opportunity to comment for a period of not less than 90 days. HUD met this requirement with its September 3, 2024 letter to the Fort Bidwell Indian Community, Karuk Tribe, Quartz Valley Indian Community, Tolowa Dee-ni' Nation (Smith River Rancheria), Yurok Tribe, Confederated Tribes of the Coos, Lower Umpqua, and Siuslaw Indians, Coquille Indian Tribe, Cow Creek Band of Umpqua Tribe, Confederated Tribes of the Grand Ronde Community, Klamath Tribes, and the Confederated Tribes of Siletz Indians.

Consistent with 24 CFR 1000.302, HUD must consider all comments received on its preliminary determination and publish the notice of final determination in the Federal Register. Because HUD provided notification to the affected Tribes on September 3, 2024, the 90-day period for affected Tribes to comment on the preliminary determination elapsed on December 2, 2024. HUD did not receive comments or feedback from the affected Indian Tribes on its preliminary determination within this 90-day period. Consequently, HUD is providing notice of its final determination to increase the formula area of the Bear River Band of the Rohnerville Rancheria to include the balance of Humboldt County for fiscal year 2025.

Erna Reeves,
Acting Deputy Assistant Secretary for Office of Native American Programs.

[FR Doc. 2025-05292 Filed 3-27-25; 8:45 am]

BILLING CODE 4210-67-P